DEPARTMENT OF COMMERCE

National Oceanic and Atmospheric Administration

50 CFR Part 660

[I.D. 052803C]

Fisheries off the West Coast States and in the Western Pacific; Pacific Coast Groundfish Fishery; Intent to Prepare an Environmental Impact Statement for Fishing Conducted Under the Pacific Coast Groundfish Fishery Management Plan

AGENCY: National Marine Fisheries Service (NMFS), National Oceanic and Atmospheric Administration (NOAA), Commerce.

ACTION: Notice of intent to prepare an environmental impact statement (EIS); announcement of public scoping period; request for written comments.

SUMMARY: NMFS, in cooperation with the Pacific Fishery Management Council (Council), announces its intention to prepare an EIS in accordance with the National Environmental Policy Act (NEPA) to assess the impacts of the 2004 Pacific Coast groundfish fishery specifications and management measures on the human environment.

DATES: Written comments must be received no later than 5 p.m, local time (l.t.), on July 7, 2003. Two public scoping meetings are scheduled as part of the Council's June 16-20, 2003, meeting in Foster City, CA (see SUPPLEMENTARY INFORMATION).

ADDRESSES: Written comments on suggested alternatives and potential impacts should be sent to Donald McIsaac, Executive Director, Pacific Fishery Management Council, 7700 NE Ambassador Place, Suite 200, Portland, OR 97220-1384. Comments may also be sent via facsimile (fax) to 503-820-2299 or via e-mail (pfmc.comments@noaa.gov and write “2004 groundfish specifications EIS” in subject line).

FOR FURTHER INFORMATION CONTACT: John DeVore, Groundfish Fishery Management Coordinator; phone: 503-820-2280 and e-mail: john.devore@noaa.gov or Matthew Harrington, NMFS Northwest Region NEPA Coordinator; phone: 206-526-4742 and email: Matthew.Harrington@noaa.gov.

SUPPLEMENTARY INFORMATION:

Background and Need For Agency Action

There are more than 80 species managed under the Pacific Coast Groundfish Fishery Management Plan (Groundfish FMP), nine of which have been declared overfished. The groundfish stocks support an array of commercial, recreational, and Indian tribal fishing interests in state and Federal waters off the coasts of Washington, Oregon, and California. In addition, groundfish are also harvested incidentally in nongroundfish fisheries, most notably the trawl fisheries for pink shrimp, spot/ridgeback prawns, California halibut, and sea cucumber.

The proposed action is needed to establish commercial and recreational harvests levels in 2004 that will ensure groundfish stocks are maintained at, or restored to, sizes and structures that will produce the highest net benefit to the nation, while balancing environmental and social values.

The Proposed Action

The proposed action is to implement management measures consistent with the requirements of the Magnuson-Stevens Fishery Conservation and Management Act (Magnuson-Stevens Act) that constrain total fishing mortality during 2004 within limits that maintain fish stocks at, or rebuild them to, a level capable of producing maximum sustained yield (MSY), or to a stock size less than this if such stock size results in long-term net benefit to the nation.

These fishing mortality limits are harvest specifications that include acceptable biological catches (ABCs) and optimum yields (OYs) for groundfish species or species groups in need of particular protection; OYs may be represented by harvest guidelines or quotas for species that need individual management. The allocation of commercial OYs between the open access and limited entry segments of the fishery is also part of the proposed action. The FMP requires that the groundfish specifications be annually evaluated and revised as necessary, and that management measures designed to achieve the OYs be published in the Federal Register and made effective by January 1, the beginning of the fishing year. The Magnuson-Stevens Act and the Groundfish FMP also require that NMFS implement actions to prevent overfishing and to rebuild overfished stocks. These specifications include fish caught in state ocean waters (0-3 nautical miles (nm) offshore) as well as fish caught in the U.S. exclusive economic zone (3-200 nm offshore).

Alternatives

NEPA requires that agencies evaluate reasonable alternatives to the proposed action in an EIS. The purpose and need for agency action determines the range of reasonable alternatives. A preliminary set of alternatives will be developed during the June 16-20, 2003, Council meeting. Alternatives will be structured around a range of ABCs/OYs for assessed groundfish species. This range of ABCs/OYs is based on stock assessments, including seven new assessments completed since 2003 harvest specification were established, rebuilding analyses for overfished species based on these assessments, and a stock assessment of cabezon due to be completed before the end of 2003. This last assessment, although it will not be completed and peer-reviewed early in the decision process, will be used to identify different management measures for nearshore fisheries. For some species ABC/OY ranges that would be used to develop alternatives may be based on consultations by the Council with state and Federal agencies, Indian tribes, and the affected public on the allocation of harvest opportunity between sectors. Allocation decisions can affect OYs because different sectors may catch fish of different ages, allowing different sustainable harvest levels.

For each set of ABCs/OYs used in a given alternative, a set of management measures will be identified that will constrain total harvest mortality (across all fisheries intercepting groundfish). Restrictive management measures intended to rebuild overfished species have been adopted and implemented over the past several years for most commercial and recreational fishing sectors. Management measures intended to control the rate at which different groundfish species or species groups are taken in the fisheries include trip limits, bag limits, size limits, time/area closures, and gear restrictions. Large area closures, intended to reduce bycatch of overfished species and referred to as Rockfish Conservation Areas were first implemented in late 2002. These closed areas will continue to be a key feature of alternatives considered in the EIS to manage groundfish fisheries in 2004.

Preliminary Identification of Environmental Issues

A principal objective of the scoping and public input process is to identify potentially significant impacts to the human environment that should be analyzed in depth in the EIS. The EIS evaluates a range of feasible alternatives (described above) to determine their likely impacts on the human environment and identify significant impacts. Council and NMFS staff conducted initial screening to identify the potentially significant impacts of the range of alternatives that will be developed. They identified the following potentially significant impacts: (1) effects of fishing operations on essential fish habitat; (2) effects of fishing operations on protected species listed under the Endangered Species Act and Marine Mammal Protection Act and their critical habitat; and (3) effects on the sustainability of target and non-target fish stocks, and especially overfished groundfish stocks. Socioeconomic impacts are also considered in terms of the effect changes in projected harvests will have on the following groups of individuals: (1) Those who participate in harvesting the fishery resources and other living marine resources; (2) those who process and market fish and fish products; (3) those who are involved in allied support industries; (4) those who consume fish products; (5) those who rely on living marine resources in the management area, either for subsistence needs or for recreational benefits; (6) those who benefit from non-consumptive uses of living marine resources; (7) those involved in managing and monitoring fisheries; and (8) fishing communities.

Public Scoping Process

Two public scoping meetings will occur at the June 16-20, 2003, Council meeting as part of the Council's regular agenda. The meeting will take place at the Crown Plaza Hotel, 1221 Chess Drive, Foster City, CA. The first public scoping meeting will be held on Tuesday, June 17, 2003, as part of agendum B.4, Preliminary Range of Harvest Levels for 2004. The second scoping meeting will be held on Friday, June 20, 2003, as part of agendum B.14, Adoption of Proposed Range of Alternatives for 2004 Groundfish Management Measures. A public comment period is scheduled for each agendum and comments on the scope of the DEIS are encouraged during these comment periods. Because these scoping opportunities will occur as part of the regular agenda, the time at which they will begin depends on the agenda as a whole. Council business begins at 8 a.m. each day and usually ends not later than 5 p.m. A scoping document identifying the management issues, and an outline of the proposed analysis will be made available at the June 16-20, 2003 Council meeting and on the Council's Web site (www.pcouncil.org). A full agenda and other information about this meeting is also available on this website or by request from Council offices (see ADDRESSES above).

NMFS invites comments and suggestions on the scope of the analysis to be included in the DEIS. The scope includes the range of alternatives to be considered and potentially significant impacts to the human environment that should be evaluated in the DEIS. In addition, NMFS is notifying the public that, in conjunction with the Council, it is beginning a full environmental analysis and decision-making process for this proposal so that interested or affected people may know how they can participate in the environmental analysis and contribute to the final decision.

A DEIS will be prepared for comment later on in the process. The comment period on the DEIS environmental impact statement will be 45 days from the date the Environmental Protection Agency's notice of availability appears in the Federal Register. It is very important that those interested in this proposed action participate at that time. To be the most helpful, comments on the DEIS should be as specific as possible and may address the adequacy of the statement or merits of the alternatives discussed. It is also helpful if comments refer to specific pages or chapters of the DEIS. Comments may also address the adequacy of the DEIS or the merits of the alternatives formulated and discussed in the DEIS. (Reviewers may wish to refer to the Council on Environmental Quality Regulations for implementing the procedural provisions of NEPA CFR 1503.3 in addressing these points.) Comments received, including the names and addresses of those who comment, will be considered part of the public record on this proposal and will be available for public inspection.

Special Accommodations

These meetings are accessible to people with physical disabilities. Requests for sign language interpretation or other auxiliary aids should be directed to Carolyn Porter 503-820-2280 (voice) or 503-820-2299 (fax), at least 5 days prior to the scheduled meeting date.

Authority: 16 U.S.C. 1801 et seq.

Dated: May 30, 2003.
Richard W. Surdi,
Acting Director, Office of Sustainable Fisheries, National Marine Fisheries Service.

[FR Doc. 03-14177 Filed 6-4-03; 8:45 am]

BILLING CODE 3510-22-S